DEPARTMENT OF HEALTH AND HUMAN SERVICES

National Institutes of Health

Center for Scientific Review; Amended Notice of Meeting

Notice is hereby given of a change in the meeting of the Intercellular Interactions Study Section, February 08, 2018, 08:00 a.m. to February 09, 2018, 05:00 p.m., Courtyard New Orleans French Quarter/Iberville, 910 Iberville Street, New Orleans, LA 70112 which was published in the Federal Register on January 11, 2018, 83 Pg. 1375.

The meeting will be held at New Orleans Marriott, 555 Canal St., New Orleans, LA 70130. The date and time remains the same. The meeting is closed to the public.

Dated: February 7, 2018.
David Clary,
Program Analyst, Office of Federal Advisory Committee Policy.

[FR Doc. 2018-02837 Filed 2-12-18; 8:45 am]

BILLING CODE 4140-01-P